DEPARTMENT OF AGRICULTURE

Forest Service

Notice of Resource Advisory Committee meeting

AGENCY: North Central Idaho Resource Advisory Committee, Grangeville, Idaho, USDA, Forest Service.

ACTION: Notice of Meeting.

SUMMARY: Pursuant to the authorities in the Federal Advisory Committee Act (Public Law 92-463) and under the Secure Rural Schools and Community Self Determination Act of 2000 (Public Law 106-393) the Nez Perce and Clearwater National Forests' North Central Idaho Resource Advisory Committee will meet Tuesday, October 8, 2002 in Moscow, Idaho for a business meeting. The meeting is open to the public.

SUPPLEMENTARY INFORMATION: The business meeting on October 8 begins at 10 a.m., in Room 207, Latah County Courthouse, 522 S. Adams Street, Moscow, Idaho 83843. Agenda topics will include discussion of project screening and selection process. A public forum will begin at 2:30 p.m. (PST).

FOR FURTHER INFORMATION CONTACT: Thor Mereszczak, Staff Officer and Designated Federal Officer, at (208) 983-1950.

Dated: August 29, 2002.
Ihor Mereszczak,
Acting Forest Supervisor.

[FR Doc. 02-22676 Filed 9-5-02; 8:45 am]

BILLING CODE 3410-11-M